DEPARTMENT OF JUSTICE

Antitrust Division

Notice Pursuant to the National Cooperative Research and Production Act of 1993—International Association for Continuing Education and Training

Notice is hereby given that, on May 22, 2008, pursuant to Section 6(a) of the National Cooperative Research and Production Act of 1993, 15 U.S.C. 4301 et seq. (“the Act”), International Association for Continuing Education and Training (“IACET”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: International Association for Continuing Education and Training, McLean, VA. The nature and scope of IACET's standards development activities are: To create standards for the development and delivery of non-credit continuing education and training for consistency in procedural requirements related to such development and delivery.

Patricia A. Brink,
Deputy Director of Operations, Antitrust Division.

[FR Doc. E8-15566 Filed 7-10-08; 8:45 am]

BILLING CODE 4410-11-M